DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Application for Investment Assistance.

OMB Control Number: 0610-0094.

Form Number(s): ED-900.

Type of Request: Regular submission.

Number of Respondents: 1,525.

Average Hours per Response: 21 hours, 35 minutes.

Burden Hours: 26,150.

Needs and Uses: The information contained in Form ED-900 is necessary for EDA to evaluate whether proposed projects satisfy eligibility and programmatic requirements contained in EDA's authorizing legislation, the Public Works and Economic Development Act of 1965, as amended (42 U.S.C. 3121 et seq.) and as contained in the Trade and Globalization Adjustment Assistance Act (TGAAA), part of the American Recovery and Reinvestment Act of 209, which amended chapter 4 of the Trade Act of 1974.

Affected Public: City, county, or other political subdivision of a State or a consortium of political subdivisions of a State.

Frequency: On occasion.

Respondent's Obligation: Mandatory.

OMB Desk Officer: Sharon Mar, (202) 395-6466.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Sharon Mar, OMB Desk Officer, FAX number (202) 395-5806, or Sharon_Mar@omb.eop.gov.

Dated: February 19, 2010.
Gwellnar Banks,
Management Analyst, Office of the Chief Information Officer.

[FR Doc. 2010-3781 Filed 2-24-10; 8:45 am]

BILLING CODE 3510-24-P